DEPARTMENT OF TRANSPORTATION

Office of the Secretary

[Docket No. DOT-OST-2021-0091]

Senior Executive Service Performance Review Boards Membership

AGENCY: Office of the Secretary, Department of Transportation (DOT).

ACTION: Notice of Performance Review Board (PRB) appointments.

SUMMARY: DOT published the names of the persons selected to serve on Departmental PRBs.

FOR FURTHER INFORMATION CONTACT: Anne B. Audet, Director, Departmental Office of Human Resource Management (202) 366-2478.

SUPPLEMENTARY INFORMATION: The persons named below may be selected to serve on one or more Departmental PRBs.

(Authority: 5 U.S.C. 4314(c)(4))

Issued in Washington, DC, on September 14, 2021.
Keith E. Washington,
Deputy Assistant Secretary for Administration.

DEPARTMENT OF TRANSPORTATION

Federal Highway Administration

ALONZI, ACHILLE

ARNOLD, ROBERT E

BAKER, SHANA V

BEZIO, BRIAN R

BIONDI, EMILY CHRISTINE

BRIGGS, VALERIE ANNETTE

BURROWS, SHAY K

CHRISTIAN, JAMES C

CRONIN, BRIAN P

CURTIS, STEPHANIE

EVANS, MONIQUE REDWINE

EVERETT, THOMAS D

FINFROCK, ARLAN E JR

FLEURY, NICOLLE M

FOUCH, BRIAN J

GIGLIOTTI, DANA

GRIFFITH, MICHAEL S

HARTMANN, JOSEPH L

HESS, TIMOTHY G.

HUGHES, CAITLIN GWYNNE

JENSEN, GARY ALAN

KALLA, HARI

KEHRLI, MARK R

KNOPP, MARTIN C

LEONARD, KENNETH

LEWIS, DAVID A

LUCERO, AMY C

MAMMANO, VINCENT P

MARQUIS, RICHARD J

MCLAURY, KEVIN L

OSBORN, PETER W

PETTY, KENNETH II

POLLACK, STEPHANIE LYNN

REGAL, GERALDINE K

RICHARDSON, CHRISTOPHER S

RICHTER, CHERYL ALLEN

RICO, IRENE

ROGERS, ANDREW CHARLES

RUSNAK, ALLISON B

SCHAFTLEIN, SHARI M

SHAFFER, RHONDA C

SHEPHERD, GLORIA MORGAN

SOSA, MAYELA

STEPHANOS, PETER J

TURNER, DERRELL E

WALKER, CHERYL J

WINTER, DAVID R

WRIGHT, LESLIE JANICE

Federal Motor Carrier Safety Administration

ADAMS, EARL STANLEY JR

DELORENZO, JOSEPH P

FROMM, CHARLES J

GRAYDON, AMY HEATHER

HERNANDEZ, SCOTT

HUG, CARRIE A

JONES, DARIN G

JOSHI, MEERA CATHERINE

KEANE, THOMAS P

KELLY, TAFT D

MINOR, LARRY W

PIDUGU, PAVANKUMAR

RIDDLE, KENNETH H.

RUBAN, DARRELL L

SCHREIBMAN, JACK L

SENTEF, JOSEPH

VAN STEENBURG, JOHN W

Federal Railroad Administration

ALEXY, JOHN KARL

ALLAHYAR, MARYAM

BOSE, AMITABHA

DYER, WILLIAM PATRICK

HAYWARD-WILLIAMS, CAROLYN

JORTLAND, BRETT ANDREW

KING, CHARLES PAT

KOUL, NEERAJ

LESTINGI, MICHAEL W.

LONG, MICHAEL T

NISSENBAUM, PAUL

PATTERSON, MARK A

RENNERT, JAMIE P.

REYES-ALICEA, REBECCA

RIGGS, TAMELA LYNN

Federal Transit Administration

AHMAD, MOKHTEE

ALLEN, REGINALD E

BROOKINS, KELLEY

BUTLER, PETER S

DALTON-KUMINS, SELENE FAE

GARCIA CREWS, THERESA

GEHRKE, LINDA M

GOODMAN, STEPHEN C

IYER, SUBASH SUBRAMANIAN

JAMES, FELICIA LANISE

LYSSY, GAIL C

NIFOSI, DANA C.

ROBINSON, BRUCE A

TAYLOR, YVETTE G

TELLIS, RAYMOND S

TERWILLIGER, CINDY E

WELBES, MATTHEW J

Great Lakes St. Lawrence Seaway Development Corporation

MIDDLEBROOK, CRAIG H

O'MALLEY, KEVIN P

Maritime Administration

BALLARD, JOHN R

BECKETT, COREY ANDREW

BROHL, HELEN A

BUONO, JOACHIM

CARTER, MICHAEL C

DAVIS, DELIA P

DUNLAP, SUSAN LYNN

FISHER, ANTHONY JR

HARRINGTON, DOUGLAS M

KUMAR, SHASHI N

LESSLEY, LUCINDA DAVIS

PAAPE, WILLIAM

PIXA, RAND R.

TOKARSKI, KEVIN M

National Highway Traffic Safety Administration

BAUMANN, ROLAND T III

BLINCOE, LAWRENCE J

CARLSON, ANN ELIZABETH

CHEN, CHOU-LIN

CLIFF, STEVEN SCOTT

COLLINS, ANNE L

DANIELSON, JACK H.

DOHERTY, JANE H

DOLAS, RAJEEV K

DONALDSON, K JOHN

HATIPOGLU, CEM

HINES, DAVID M

JOHNSON, TIM J

KOLLY, JOSEPH M

KOLODZIEJ, KERRY E

MARSHALL, JOHN W

MATHEKE, OTTO G III

PARKER, CYNTHIA D

PFISTER, JAMIE DURHAM

POSTEN, RAYMOND R

RIDELLA, STEPHEN A

RITTER, ROBERT G

SRINIVASAN, NANDA N

SUMMERS, LORI K

VALLESE, JULIETTE M.

Office of the Secretary of Transportation

ABRAHAM, JULIE

ALBRIGHT, JACK G

AUDET, ANNE H

AUGUSTINE, JOHN E

AYLWARD, ANNE D

BOHNERT, ROGER V

CALLENDER, DUANE A

CARLSON, TERENCE W

CHAVEZ, RICHARD M.

CHULUMOVICH, MADELINE M

COES, CHRISTOPHER ALEXAND

COGGINS, COLLEEN P

COHEN, DANIEL

COHN HUTCHESON, ROBIN M

CONNORS, SUSAN M

DOUGHERTY, BARBARA KAYE

FARAJIAN, MORTEZA

FLEMING, GREGG G

FUNK, JENNIFER S

GEIER, PAUL M

HAMPSHIRE, ROBERT CORNELI

HENDERSON, MAURICE ALEXAN

HERLIHY, THOMAS W

HOMAN, TODD M

HORN, DONALD H

HU, PATRICIA S.

HURDLE, LANA T

HUYNH, JULI C

IRVINE, PETER D

JACKSON, RONALD A

KALETA, JUDITH S

KING, DANIEL E.

LAWRENCE, CHRISTINE A

LEFEVRE, MARIA S.

LOHRENZ, MAURA C

MARCHESE, APRIL LYNN

MARION, IRENE BIANCA

MARTIN, HAROLD W III

MCCARTNEY, ERIN P

MCNAMARA, PHILIP ADAM

MORGAN, DANIEL S.

O'BERRY, DONNA

ORNDORFF, ANDREW R

PAIEWONSKY, LUISA M

PETROSINOWOOLVERTON, MARI

PETSONK, CAROL ANNETTE

POPKIN, STEPHEN M

PUTNAM, JOHN EDWARD

REAMY, LYNDA TRAN

RUIZ, KRISTIN RAE

SCHILLER, LAURA ELIZABETH

SCHMITT, ROLF R

SHAPIRO, MICHAEL PARIS

SHEIKH IBRAHIM, FIRAS

SHULMAN, SOPHIE MIKHAL

SIMONS, DANI LYNN

SIMPSON, JOAN

SMITH, WILLIE H

SPRAGUE, MARY G.

SZABAT, JOEL M

SZAKAL, KEITH J

SZATMARY, RONALD ALLEN JR

TAYLOR, BENJAMIN J

TIMOTHY, DARREN P

WASHINGTON, KEITH E

WASSMER, VICTORIA BAECHER

WISHNIA, ANDREW JAY

WORKIE, BLANE A

ZIFF, LAURA M

Pipeline and Hazardous Materials Safety Administration

BORENER, SHERRY S

BROWN, TRISTAN HILTON

DAUGHERTY, LINDA

DAVIS, CAREY THOMAS

FARLEY, AUDREY L.

GATTI, JONATHAN D

GORDON, STEPHEN N JR

MAYBERRY, ALAN K

MCMILLAN, HOWARD W

QUADE, WILLIAM A III

SCHOONOVER, WILLIAM S

TAHAMTANI, MASSOUD

TSAGANOS, VASILIKI B

[FR Doc. 2021-22821 Filed 10-19-21; 8:45 am]

BILLING CODE 4910-9X-P